DEPARTMENT OF DEFENSE

Department of the Army

Notice of Availability for the Final Environmental Impact Statement for the Disposition of Hangars 2 and 3, Fort Wainwright, AK

AGENCY: Department of the Army, DoD.

ACTION: Notice of availability.

SUMMARY: The Department of the Army announces the availability of the Final Environmental Impact Statement (EIS) for the Disposition of Hangars 2 and 3 at Fort Wainwright, Alaska. The Final EIS analyzes and evaluates the potential environmental impacts associated with proposed disposition options for two historic World War II-era hangars and supporting infrastructure located on the Main Post of Fort Wainwright. Cultural resources would experience significant impacts under both alternatives; however, both the Ladd Field National Historic Landmark and Cold War Historic District will retain their historic integrity despite the loss of the hangars as contributing resources to these districts.

The Army considered several reuse alternatives for the hangars. All but one of these reuse alternatives were incompatible with the current or future military mission at Fort Wainwright. The one reuse alternative that was compatible (using one of the hangars as an unmanned aerial system maintenance hangar) was determined to be prohibitively expensive. As a result, only one action alternative was considered to be reasonable and was analyzed in detail in the Final EIS: demolition of Hangars 2 and 3 (Alternative 1). This alternative is the Army's preferred alternative. The No Action Alternative was also considered and carried through for detailed analysis in the Final EIS. Under the No Action Alternative, demolition of Hangars 2 and 3 would not occur, the hangars would remain vacant, and they would be maintained at minimal levels. The No Action Alternative provides the environmental baseline conditions for comparing the impacts associated with the other alternative.

DATES: The waiting period for the Final EIS will end 30 days after the publication of a Notice of Availability in the Federal Register by the United States Environmental Protection Agency.

ADDRESSES: Please send questions or requests for a copy of the Final EIS to Mr. Matthew Sprau, Directorate of Public Works, Attention: IMFW-PWE (Sprau), 1060 Gaffney Road #4500, Fort Wainwright, AK 99703-4500 or by email to: matthew.h.sprau.civ@mail.mil.

FOR FURTHER INFORMATION CONTACT: Ms. Linda Douglass, Public Affairs Office (PAO), IMFW-PAO (Douglass), 1060 Gaffney Road #5900, Fort Wainwright, AK 99703-5900; telephone (907) 353-6701, email: linda.douglass@us.army.mil

SUPPLEMENTARY INFORMATION: Hangars 2 and 3 are contributing resources to the Ladd Field National Historic Landmark (Ladd Field NHL) and the Ladd Air Force Base Cold War Historic District (Cold War Historic District) at Fort Wainwright. The Ladd Field NHL was listed in the National Register of Historic Places in 1984, and the Cold War Historic District was determined to be eligible for the National Register of Historic Places in 2010. Constructed between 1943 and 1944 as semi-permanent structures, these hangars have received varying degrees of operational maintenance over the years, but no large-scale rehabilitation has occurred. To accommodate changing missions, the Army completed numerous interior modifications, including creating doorways and windows and altering the interior lateral cross-bracing. The lack of rehabilitation, interior modifications, the age of the structures, a fire in Hangar 2, and the harsh Alaskan environment all have contributed to the compromised structural integrity of both buildings. The United States Army Garrison Fort Wainwright, Alaska (USAG FWA) has condemned the buildings, and they are no longer used because they present a safety hazard.

The Final EIS has been prepared in accordance with the National Environmental Policy Act of 1969 (NEPA), as amended (42 United States Code § 4321 et seq.); NEPA-implementing regulations issued by the President's Council on Environmental Quality (40 Code of Federal Regulations [CFR] §§ 1500-1508); and the Army's NEPA-implementing regulation (32 CFR § 651, Environmental Analysis of Army Actions). The purpose of the Final EIS is to inform the decision makers, agencies, interested parties, Alaska Native tribes, and the public of possible environmental consequences associated with the reasonable disposition alternatives for Hangars 2 and 3.

The USAG FWA entered into consultation concerning the proposed disposition of Hangars 2 and 3 as required by Section 106 of the National Historic Preservation Act and its implementing regulations (36 CFR § 800). The USAG FWA concludes that the disposition would result in historic properties being adversely affected. The disposition of the hangars would adversely affect the hangars as contributing resources to the Ladd Field NHL and the Cold War Historic District and, in so doing, would adversely affect both districts. The Army entered into a Memorandum of Agreement (MOA) with the Alaska State Historic Preservation Office and the Advisory Council on Historic Preservation pursuant to 36 CFR § 800.6(2)(c) to mitigate adverse effects.

Mitigation measures provided in the MOA require public outreach in the pursuit of more visibility and appreciation for the Ladd Field NHL, re-evaluation of the Ladd Field NHL, and stewardship of the Ladd Field NHL. Mitigation under the No Action Alternative would be the same as under Alternative 1, except the time frame for completing the stipulations would be based on the date of execution of the MOA rather than on the demolition of the hangars.

Public and agency comments received on the Draft EIS did not result in modification of the alternatives or the environmental analysis; therefore, the full text of the EIS has not been reprinted. Instead, an erratum was prepared to supplement the Draft EIS, and these two documents together constitute the Final EIS for the Disposition of Hangars 2 and 3 at Fort Wainwright, Alaska. Public and agency comments received on the Draft EIS and government responses can be found in Appendix E of the Final EIS. Comments received resulted in the inclusion of two additional mitigation measures in the final National Historic Preservation Act (NHPA) Section 106 Memorandum of Agreement. These additional mitigation measures are also appropriately reflected in the Final EIS, Section 3.0 Errata Sheet Revisions to be Made to the Draft Environmental Impact Statement.

An electronic version of the Final EIS can be viewed or downloaded from the following Web site: http://www.wainwright.army.mil/env/NEPA/Current.html Copies of the Final EIS will also be available for review at the Noel Wien Public Library in Fairbanks, Alaska.

Brenda S. Bowen,
Army Federal Register Liaison Officer.

[FR Doc. 2014-01851 Filed 1-30-14; 8:45 am]

BILLING CODE 3710-08-P